DEPARTMENT OF COMMERCE

International Trade Administration

[C-533-825]

Polyethylene Terephthalate Film, Sheet and Strip From India: Rescission of Countervailing Duty Administrative Review

AGENCY: Import Administration, International Trade Administration, Department of Commerce.

DATES: Effective Date: April 2, 2012.

FOR FURTHER INFORMATION CONTACT: Toni Page, Import Administration, International Trade Administration, U.S. Department of Commerce, 14th Street and Constitution Avenue NW., Washington, DC 20230; telephone: (202) 482-1398.

SUPPLEMENTARY INFORMATION

Background

On July 1, 2011, the Department of Commerce (Department) published a notice of opportunity to request an administrative review of the countervailing duty (CVD) order on polyethylene terephthalate film, sheet and strip from India covering the period January 1, 2010, through December 31, 2010. See Antidumping or Countervailing Duty Order, Finding, or Suspended Investigation; Opportunity To Request Administrative Review, 76 FR 38609, 38610 (July 1, 2011). The Department received a timely request from Petitioners ¹ for a CVD administrative review of five companies: Ester Industries Limited (Ester), Garware Polyester Ltd. (Garware), Jindal Poly Films Limited of India (Jindal), Polyplex Corporation Ltd. (Polyplex), and SRF Limited (SRF). The Department also received timely requests for a CVD review from Vacmet India Ltd. (Vacmet) and Polypacks Industries of India (Polypacks).

¹ Petitioners are DuPont Teijin Films, Mitsubishi Polyester Film, Inc., SKC, Inc. and Toray Plastics (America), Inc.

On August 26, 2011, the Department published a notice of initiation of administrative review with respect to Ester, Garware, Jindal, Polyplex, SRF, Vacmet, and Polypacks. See Initiation of Antidumping and Countervailing Duty Administrative Reviews and Requests for Revocation in Part, 76 FR 53404 (August 26, 2011) (Initiation Notice). Prior to the publication of the Initiation Notice, Vacmet and Polypacks timely withdrew their requests for an administrative review. On September 20, 2011, the Department published a rescission, in part, of the CVD administrative review with respect to Vacmet and Polypacks. See Polyethylene Terephthalate Film, Sheet and Strip From India: Rescission, In Part, of Countervailing Duty Administrative Review, 76 FR 58248 (September 20, 2011).

On September 12, 2011, SRF filed a certification of no shipments and requested that the Department rescind the CVD administrative review of the company. On November 25, 2011, Petitioners timely withdrew their request for CVD administrative reviews of Ester, Garware, Polyplex, and Jindal. The Department published a rescission, in part, of the CVD administrative review with respect to Ester, Garware, Polyplex, and Jindal on January 11, 2012. See Polyethylene Terephthalate Film, Sheet and Strip From India: Rescission, in Part, of Countervailing Duty Administrative Review, 77 FR 1668 (January 11, 2012). The administrative review of SRF continued.

Rescission of Review

On February 21, 2012, we published a notice of intent to rescind this CVD administrative review with respect to SRF, and invited interested parties to comment. See Polyethylene Terephthalate Film, Sheet and Strip from India: Preliminary Intent to Rescind Countervailing Duty Administrative Review, 77 FR 9892 (February 21, 2012) (Intent to Rescind).

Pursuant to 19 CFR 351.213(d)(3), the Department may rescind an administrative review with respect to a particular exporter or producer, if the Secretary concludes that, during the period covered by the review, there were no entries, exports, or sales of the subject merchandise to the United States by that exporter or producer. SRF submitted a letter on September 12, 2011, certifying that it did not have any shipments of subject merchandise to the United States during the period of review (POR). The Department received no comments from any other party on SRF's no-shipment claim.

We issued a “no shipments inquiry” message to U.S. Customs and Border Protection (CBP), which posted the message on October 12, 2011.² We also conducted a CBP data query for this case on October 21, 2011, which we placed on the record.³ We did not receive any information from CBP to contradict SRF's claim of no sales, shipments, or entries of subject merchandise to the United States during the POR. See Memorandum to the File through Barbara E. Tillman, Director, AD/CVD Operations, Office 6, titled “Claim of No Shipments from SRF Limited in the 2010 Administrative Review of the Countervailing Duty Order on Polyethylene Terephthalate Film, Sheet and Strip from India,” dated February 14, 2012. Furthermore, the Department received no comments from parties on the Intent to Rescind.

² See Message number 1285302, available at http://addcvd.cbp.gov.

³ See Memorandum to Barbara E. Tillman, Director, AD/CVD Operations, Office 6, from Elfi Blum, International Trade Analyst titled “Administrative Review of the Countervailing Duty Order on Polyethylene Terephthalate Film, Sheet and Strip from India: Respondent Selection Memorandum,” dated October 21, 2011.

As such, we determine that there were no entries during the POR of subject merchandise produced or exported by SRF. Therefore, in accordance with 19 CFR 351.213(d)(3), and consistent with our practice,⁴ we are rescinding the review for SRF. Because SRF is the sole remaining company in this administrative review, the rescission with respect to SRF results in a rescission of this administrative review in its entirety.

⁴ See, e.g., Welded Carbon Steel Standard Pipe and Tube from Turkey: Notice of Rescission of Countervailing Duty Administrative Review, In Part, 74 FR 47921 (September 18, 2009).

Assessment

The Department will instruct CBP to assess countervailing duties on all appropriate entries. Subject merchandise exported by SRF will be assessed CVDs at rates equal to the cash deposit of estimated CVDs required at the time of entry, or withdrawal from warehouse, for consumption, in accordance with 19 CFR 351.212(c)(1)(i). The Department intends to issue appropriate assessment instructions directly to CBP within 15 days of publication of this notice.

Notification Regarding Administrative Protective Orders

This notice also serves as a reminder to parties subject to administrative protective order (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Tariff Act of 1930, as amended, and 19 CFR 351.213(d)(4).

Dated: March 27, 2012.
Christian Marsh,
Deputy Assistant Secretary for Antidumping and Countervailing Duty Operations.

[FR Doc. 2012-7871 Filed 3-30-12; 8:45 am]

BILLING CODE 3510-DS-P